DEPARTMENT OF LABOR

Employment and Training Administration

[TA-W-64,818]

Concept Packaging Group, Griffin, GA; Notice of Termination of Investigation

In accordance with Section 221 of the Trade Act of 1974, as amended, an investigation was initiated on January 7, 2009 in response to a petition filed by a company official on behalf of workers of Concept Packaging Group, Griffin, Georgia.

The petitioner has requested that the petition be withdrawn. Consequently, the investigation has been terminated.

Signed in Washington, DC, this 2nd day of February 2009.
Richard Church,
Certifying Officer, Division of Trade Adjustment Assistance.

[FR Doc. E9-3037 Filed 2-12-09; 8:45 am]

BILLING CODE 4510-FN-P